DEPARTMENT OF COMMERCE

International Trade Administration

[A-821-816]

Notice of Initiation of Inquiry Into the Status of the Russian Federation as a Non-Market Economy Country Under the Antidumping and Countervailing Duty Laws

AGENCY: Import Administration, International Trade Administration, Department of Commerce.

ACTION: Notice of initiation and request for comments.

EFFECTIVE DATE: October 26, 2001.

FOR FURTHER INFORMATION CONTACT: Albert Hsu, Office of Policy, Import Administration, International Trade Administration, U.S. Department of Commerce, 14th Street and Constitution Avenue, NW., Washington, DC 20230; telephone: (202) 482-4491.

SUMMARY: The Department of Commerce is initiating an inquiry into the status of the Russian Federation as a non-market economy country under the antidumping and countervailing duty laws.

The Applicable Statute

Unless otherwise indicated, all citations to the Tariff Act of 1930, as amended (the Act) are references to the provisions effective January 1, 1995, the effective date of the amendments made to the Act by the Uruguay Round Agreements Act (URAA). In addition, unless otherwise indicated, all citations to the Department of Commerce's (“Department's”) regulations are to 19 CFR part 351 (2001).

Background

On July 26, 2001, the Department of Commerce (“the Department”) received a letter from Novolipetsk Iron & Steel Corporation (“NLMK”) requesting a review of the status of Russia as a non-market economy (“NME”) country in the proceeding on hot-rolled flat-rolled carbon-quality steel products from the Russian Federation (A-821-813) (“Hot-Rolled Steel from Russia”). On August 3, 2001, the Government of the Russian Federation formally submitted NLMK's request on the record of the hot-rolled steel proceeding. On September 7, 2001, JSC Severstal submitted, also in the Hot-Rolled Steel from Russia proceeding, a formal request that the Department revoke the Russian Federation's status as a NME country. In response to these requests, the Department is initiating an inquiry into the Russian Federation's status as an NME in a separate proceeding pursuant to section 771(18)(C)(ii) of the Act.

The Department has treated Russia as a nonmarket economy (NME) country in all past antidumping duty investigations and administrative reviews. See, e.g., Notice of Final Determination of Sales at Less Than Fair Value: Hot-Rolled Flat-Rolled Carbon-Quality Steel Products from the Russian Federation, 64 FR 38626 (July 19, 1999); Titanium Sponge from the Russian Federation: Final Results of Antidumping Administrative Review, 64 FR 1599 (Jan. 11, 1999); Notice of Final Determination of Sales at Less Than Fair Value: Certain Cut-to-Length Carbon Steel Plate from the Russian Federation, 62 FR 61787 (Nov. 19, 1997); Notice of Final Determination of Sale at Less Than Fair Value: Pure Magnesium and Alloy Magnesium from the Russian Federation, 60 FR 16440 (Mar. 30, 1995). A designation as a NME remains in effect until it is revoked by the Department. See section 771(18)(C)(i) of the Act.

Opportunity for Public Comment

As part of this inquiry to determine whether to revoke Russia's NME status, the Department is interested in receiving public comment with respect to Russia on the factors listed in section 771(18)(B) of the Act, which the Department must take into account in making a market/non-market economy determination:

(i) The extent to which the currency of the foreign country is convertible into the currency of other countries;

(ii) the extent to which wage rates in the foreign country are determined by free bargaining between labor and management;

(iii) the extent to which joint ventures or other investments by firms of other foreign countries are permitted in the foreign country;

(iv) the extent of government ownership or control of the means of production;

(v) the extent of government control over allocation of resources and over price and output decisions of enterprises; and

(vi) such other factors as the administering authority considers appropriate.

Comments—Deadline, Format, and Number of Copies

The deadline for submission of comments will be 45 days after the date of publication of this notice in the Federal Register. All comments should be filed at the Department of Commerce Central Records Unit located at the address listed below. Rebuttal comments may be submitted up to 45 days after the date initial comments are due.

Each person submitting comments should include his or her name and address, and give reasons for any recommendation. To facilitate their consideration by the Department, comments should be submitted in the following format: (1) Begin each comment on a separate page; (2) concisely state the issue identified and discussed in the comment and include any supporting documentation in exhibits or appendices; (3) provide a brief summary of the comment (a maximum of 3 sentences) and label this section “summary of comment;” (4) provide an index or table of contents; and (5) include the case number A-821-816 in the top right hand corner of the submission.

To simplify the processing and distribution of comments, the Department encourages the submission of documents in electronic form accompanied by an original and 5 copies in paper form. We request that documents filed in electronic form be on DOS formatted 3.5′ diskettes and prepared in either WordPerfect 9 format or a format that the Word Perfect program can convert and import into Word Perfect 9. Please submit comments in separate files on the diskette.

Comments received on diskette will be made available to the public on the Internet at Import Administration's website, http://ia.ita.doc/gov. Paper copies will be available for reading and photocopying in the Central Records Unit, Room B-099, U.S. Department of Commerce, Pennsylvania Avenue and 14th Street, NW., Washington, DC 20230. Any questions concerning file formatting, document conversion, access on the Internet, or other file requirements should be addressed to Andrew Lee Beller, Import Administration Webmaster, (202) 482-0866.

Hearing

After reviewing all comments and rebuttal comments, the Department will determine if a public hearing is warranted, and, if so, will announce a place and time for that hearing.

This determination is issued and published in accordance with section 771(18)(c)(ii).

Dated: October 19, 2001.
Faryar Shirzad,
Assistant Secretary for Import Administration.

[FR Doc. 01-27056 Filed 10-25-01; 8:45 am]

BILLING CODE 3510-DS-P